DEPARTMENT OF THE INTERIOR

National Park Service

[NPS-WASO-NAGPRA-NPS0039315; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH), has completed an inventory of human remains and associated funerary objects and has determined that there is a cultural affiliation between the human remains and associated funerary objects and Indian Tribes or Native Hawaiian organizations in this notice.

DATES: Repatriation of the human remains and associated funerary objects in this notice may occur on or after February 18, 2025.

ADDRESSES: Megan Fry, NAGPRA Coordinator and Bioarchaeologist, University of Florida, Florida Museum of Natural History, 1659 Museum Road, Gainesville, FL 32611, telephone (352) 273-1921, email megan.fry@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Waddell's Mill (8JA65)

Human remains representing, at least, one individual has been identified from the Waddell's Mill Site (8JA65). The 8,512 associated funerary objects include faunal bone, faunal shell, ceramic sherds, lithic flakes, glass shards, charred and uncharred plant remains, faunal coprolite, and unfired clay fragments. The site was excavated numerous times between 1952-1973. The site is located in Jackson County, Florida, approximately seven miles northwest of Marianna, Florida. The site is situated on a limestone hill of the Crystal River Formation. The Ancestor was found buried in a cave shelter (Cave 1) on the mound which sits along the spring-fed pond. The site dates to the Middle Woodland through the Mission Period (A.D. 200 to 17th Century) but is predominantly associated with the Fort Walton Period. The FLMNH undertook building-wide fumigation with Vikane (sulfuryl fluoride) several times since this collection has entered the museum. No other exposure to potentially hazardous substances is known to FLMNH.

Marine Street (8SJ?)

Human remains representing, at least, seven individuals have been identified. There are no associated funerary objects. Human remains were uncovered as part of a construction project on the corner of Marine St. and Arsenal St. in St. Augustine, St. Johns County, Florida in June of 1973. They were donated to the Historic St. Augustine Preservation Board, who subsequently transferred them to the FLMNH, also in June of 1973. The FLMNH undertook building wide fumigation with Vikane (sulfuryl fluoride) several times since this collection has entered the museum. No other exposure to potentially hazardous substances is known.

Cultural Affiliation

Based on the information available and the results of consultation, cultural affiliation is reasonably identified by the geographical location or acquisition history of the human remains and associated funerary objects described in this notice.

Determinations

The FLMNH has determined that:

• The human remains described in this notice represent the physical remains of eight individuals of Native American ancestry from two sites.

• The 8,512 objects described in this notice are reasonably believed to have been placed intentionally with or near individual human remains at the time of death or later as part of the death rite or ceremony.

• There is a connection between the human remains and associated funerary objects described in this notice and the Seminole Tribe of Florida and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 18, 2025. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: January 6, 2025.
Melanie O'Brien,
Manager, National NAGPRA Program.

[FR Doc. 2025-01008 Filed 1-15-25; 8:45 am]

BILLING CODE 4312-52-P